DEPARTMENT OF COMMERCE

National Institute of Standards and Technology

Information Collection Activities; Submission to the Office of Management and Budget (OMB) for Review and Approval; Comment Request; Solicitations of Outside Advisors Information Collection Request (ICR)

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on 02/09/2024 during a 60-day comment period. This notice allows for an additional 30 days for public comments.

Agency: National Institute of Standards and Technology (NIST), Commerce.

Title: Solicitations of Outside Advisors Information Collection Request (ICR).

OMB Control Number 0693-XXXX.

Form Number(s): None.

Type of Request: Regular submission—new information collection.

Number of Respondents: 200.

Construction Manager—CFS for TA Panel: 25.

Corporate Investigation & Risk Advisor—CFS for TA Panel: 25.

Financial Advisory and Audit Services—CFS for TA Panel: 25.

Insurance Advisory Services—CFS for TA Panel: 25.

Market Advisory Services—CFS for TA: 25.

Outside Counsel—CFS for TA: 25.

Real Estate Appraisal—CFS for TA: 25.

Technical Advisor—CFS for TA: 25.

Average Hours per Response:

Construction Manager—CFS for TA Panel: 8 hours.

Corporate Investigation & Risk Advisor—CFS for TA Panel: 8 hours.

Financial Advisory and Audit Services—CFS for TA Panel: 8 hours.

Insurance Advisory Services—CFS for TA Panel: 8 hours.

Market Advisory Services—CFS for TA: 8 hours.

Outside Counsel—CFS for TA: 8 hours.

Real Estate Appraisal—CFS for TA: 8 hours.

Technical Advisor—CFS for TA: 8 hours.

Burden Hours: 1,600 hours.

Needs and Uses: As part of a notice of funding opportunity to solicit applications for incentives to support investments in the construction, expansion, and modernization of commercial semiconductor facilities, the Department stated it “will engage outside advisors, consultants, and/or attorneys at the due diligence stage. . . .” The information request seeks information from potential advisors, consultants, and/or attorneys to determine their qualifications to provide advice on transactions under the NOFO in fields such as construction management, corporate investigations and risk, finance and audits, insurance, market reviews, legal, real estate, and other technical issues.

The requests will be used by the CHIPS Incentives Program. The CHIPS Incentives Program is authorized by Title XCIX—Creating Helpful Incentives to Produce Semiconductors for America of the William M. (Mac) Thornberry National Defense Authorization Act for Fiscal Year 2021 (Pub. L. 116-283, referred to as the CHIPS Act or Act), as amended by the CHIPS Act of 2022 (Division A of Pub. L. 117-167).

Affected Public: Business or other for-profit organizations.

Frequency: Once.

Respondent's Obligation: Mandatory to be retained as an outside advisor.

Legal Authority: CHIPS Act of 2022 (Division A of Pub. L. 117-167) (the Act).

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0693-XXXX.

Sheleen Dumas,
Department PRA Clearance Officer, Office of the Under Secretary for Economic Affairs, Department of Commerce.

[FR Doc. 2024-15688 Filed 7-16-24; 8:45 am]

BILLING CODE 3510-13-P